DEPARTMENT OF TRANSPORTATION

National Highway Traffic Safety Administration

Reports, Forms and Recordkeeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on February 22, 2008 at Vol. 73, No. 36 p. 9853-54.

DATES: Comments must be submitted on or before May 30, 2008.

FOR FURTHER INFORMATION CONTACT: Larry Hershman at the National Highway Traffic Safety Administration, Vehicle Integrity Division, NVS-212, 1200 New Jersey Avenue, SE., Washington, DC 20590, phone 202-366-4929.

SUPPLEMENTARY INFORMATION:

National Highway Traffic Safety Administration

Title: Record Retention.

OMB Number: 2127—0042.

Type of Request: Renewal of a currently approved information collection.

Abstract: Under 49 U.S.C. 30166(e), NHTSA “reasonably may require a manufacturer of a motor vehicle or motor vehicle equipment to keep records, and a manufacturer, distributor or dealer to make reports, to enable [NHTSA] to decide whether the manufacturer, distributor, or dealer has complied or is complying with this chapter or a regulation prescribed or order issued under this chapter.”

To ensure that NHTSA will have access to this type of information, the agency exercised the authority granted in 49 U.S.C. Section 30166(e) and promulgated 49 CFR Part 576 Record Retention, initially published on August 20, 1974 and most recently amended on July 10, 2002 (67 FR 45873), requiring manufacturers to retain one copy of all records that contain information concerning malfunctions that may be related to motor vehicle safety for a period of five calendar years after the record is generated or acquired by the manufacturer. Manufacturers are also required to retain for ten years (five years for manufacturers of child seats and tires) the underlying records related to early warning reporting (EWR) information submitted under 49 CFR Part 579.

Affected Public: Businesses or other for profit.

Estimated Total Annual Burden: 40,020 annual hours burden (20 respondents times 1 hour, plus 1,000 respondents times 40 hours).

ADDRESSES: Send comments, within 30 days, to the Office of Information and Regulatory Affairs, Office of Management and Budget, 725 17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Issued in Washington, DC, on April 22, 2008.
Kathleen C. DeMeter,
Director, Office of Defects Investigation.

[FR Doc. E8-9206 Filed 4-29-08; 8:45 am]

BILLING CODE 4910-59-P